DEPARTMENT OF COMMERCE

National Oceanic and Atmospheric Administration

50 CFR Part 660

[Docket No. 070402075-7075-01; I.D. 022807F]

RIN 0648-AU73

Fisheries Off West Coast States; Highly Migratory Species Fisheries

AGENCY: National Marine Fisheries Service (NMFS), National Oceanic and Atmospheric Administration (NOAA), Commerce.

ACTION: Proposed rule; request for comments.

SUMMARY: NMFS issues a proposed rule to amend vessel identification regulations of the Fishery Management Plan for U.S. West Coast Fisheries for Highly Migratory Species (HMS FMP). The current regulatory text requires all commercial fishing vessels and recreational charter vessels to display their official numbers on the port and starboard sides of the deckhouse or hull, and on an appropriate weather deck (horizontal or flat surface) so as to be visible from enforcement vessels and aircraft. The proposed rule would amend the regulatory text to provide an exemption to HMS recreational charter vessels in complying with the vessel identification requirements. The regulation is necessary to clarify that vessel identification requirements apply to HMS commercial fishing vessels and not to HMS recreational charter vessels.

DATES: Comments must be received by May 18, 2007.

ADDRESSES: You may submit comments on this proposed rule, I.D. 022807F, by any of the following methods:

• E-mail: 0648-AU73.SWR@noaa.gov. Include the I.D. number in the subject line of the message.

• Federal eRulemaking Portal: www.regulations.gov. Follow the instructions for submitting comments.

• Mail: Rodney R. McInnis, Regional Administrator, Southwest Region, NMFS, 501 West Ocean Blvd., Suite 4200, Long Beach, CA 90802 4213.

• Fax: (562) 980 4047.

FOR FURTHER INFORMATION CONTACT: Craig Heberer, Sustainable Fisheries Division, NMFS, 760-431-9440, ext. 303.

SUPPLEMENTARY INFORMATION: On April 7, 2004, NMFS published a final rule to implement the HMS FMP (69 FR 18444) that included regulatory text in 50 CFR 660.704 requiring display of vessel identification markings for commercial fishing vessels and recreational charter fishing vessels that fish for HMS off or land HMS in the States of California, Oregon, and Washington. The identification markings are consistent in size, shape, and location with vessel identification markings required on commercial fishing vessels operating under the Pacific Fishery Management Council's (Council) Groundfish Fishery Management Plan. The marking requirements at 50 CFR 660.704(b) state that the official number must be affixed to each vessel in block Arabic numerals at least 10 inches (25.40 cm) in height for vessels more than 25 ft (7.62 m) but equal to or less than 65 ft (19.81 m) in length; and 18 inches (45.72 cm)in height for vessels longer than 65 ft (19.81 m) in length. Markings must be legible and of a color that contrasts with the background.

As discussed during the HMS FMP Plan Development phase, the Council's intent in recommending the current requirement, was to address marking for identification purposes on HMS commercial fishing vessels, not recreational charter vessels. Our intent in promulgating the rule was to exempt recreational charter vessels from the marking requirements, similar to exemptions granted under the Council's Groundfish FMP. The current inclusion of HMS recreational charter vessels as part of the vessel identification requirements in the HMS FMP is not consistent with how vessel marking requirements are applied in the Groundfish FMP. The Council recommended to NMFS that meeting this requirement was not necessary as the HMS recreational charter vessels were already adequately marked, under existing state and U.S. Coast Guard regulations, so as to be identified by enforcement assets from both air and sea. In addition to being unnecessary for enforcement purposes, compliance with the current marking requirement would detract from the aesthetics of the charter vessels and degrade the “attraction factor” for future clients.

Classification

NMFS has determined that the proposed rule is consistent with the HMS FMP and preliminarily determined that this proposed rule is consistent with the Magnuson-Stevens Fishery Conservation and Management Act and other applicable laws.

This proposed rule has been determined to be not significant for purposes of Executive Order 12866.

The Chief Counsel for Regulation of the Department of Commerce certified to the Chief Counsel for Advocacy of the Small Business Administration that this proposed rule, if adopted, would not have a significant economic impact on a substantial number of small entities. Approximately 327 vessels were permitted under the HMS FMP to operate in the HMS recreational charter fishery off the U.S. West Coast in 2006. This proposed rule would exclude owners of HMS permitted recreational charter vessels from the vessel identification regulations at 50 CFR 660.704. The cost of maintaining/applying the identification numbers is approximately one and one-half hours of labor and the cost of approximately 3 gallons of marine paint, or about $20. All vessels affected by this rule are considered small business entities; the rule should not only have no adverse economic impact to them, but should have a direct positive impact to them (i.e., it simply would relieve a burden).

List of Subjects in 50 CFR Part 660

Fisheries, Fishing, Reporting and recordkeeping requirements.

Dated: April 13, 2007.
Samuel D. Rauch III,
Deputy Assistant Administrator for Regulatory Programs, National Marine Fisheries Service.

For the reasons set out in the preamble, 50 CFR part 660 is proposed to be amended as follows:

PART 660—FISHERIES OFF THE WEST COAST STATES

1. The authority citation for part 660 continues to read as follows:

Authority: 16 U.S.C. 1801 et seq.

2. Section 660.704 is revised to read as follows:

§ 660.704 Vessel identification.

(a) General. This section only applies to commercial fishing vessels that fish for HMS off or land HMS in the States of California, Oregon, and Washington. This section does not apply to recreational charter vessels that fish for HMS off or land HMS in the States of California, Oregon, and Washington.

(b) Official number. Each fishing vessel subject to this section must display its official number on the port and starboard sides of the deckhouse or hull, and on an appropriate weather deck so as to be visible from enforcement vessels and aircraft.

(c) Numerals. The official number must be affixed to each vessel subject to this section in block Arabic numerals at least 10 inches (25.40 cm) in height for vessels more than 25 ft (7.62 m) but equal to or less than 65 ft (19.81 m) in length; and 18 inches (45.72 cm)in height for vessels longer than 65 ft (19.81 m) in length. Markings must be legible and of a color that contrasts with the background.

[FR Doc. E7-7381 Filed 4-17-07; 8:45 am]

BILLING CODE 3510-22-S